DEPARTMENT OF ENERGY

Federal Energy Regulatory Commission

Combined Notice of Filings

Take notice that the Commission has received the following Natural Gas Pipeline Rate and Refund Report filings:

Filings Instituting Proceedings

Docket Number: PR17-46-000.

Applicants: Public Service Company of Colorado.

Description: Tariff filing per 284.123(b),(e)+(g): 20170607_SOR—GRSA Eff. 5-1-2017 to be effective 5/1/2017; Filing Type: 1300.

Filed Date: 6/7/17.

Accession Number: 201706075155.

Comments Due: 5 p.m. ET 6/28/17.

284.123(g) Protests Due: 5 p.m. ET 8/7/17.

Docket Numbers: RP17-777-000.

Applicants: Trunkline Gas Company, LLC.

Description: Trunkline Gas Company, LLC submits tariff filing per 154.204: Non-Conforming List Update—Rover to be effective 7/1/2017.

Filed Date: 05/30/2017.

Accession Number: 20170530-5143.

Comment Date: 5:00 p.m. Eastern Time on Monday, June 19, 2017.

Docket Numbers: RP17-828-000.

Applicants: Trailblazer Pipeline Company LLC.

Description: Trailblazer Pipeline Company LLC submits tariff filing per 154.204: Neg Rate 2017-06-14 Fortigen to be effective 6/15/2017.

Filed Date: 06/13/2017.

Accession Number: 20170613-5074.

Comment Date: 5:00 p.m. Eastern Time on Monday, June 26, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2017.
Nathaniel J. Davis, Sr.,
Deputy Secretary.

[FR Doc. 2017-13093 Filed 6-22-17; 8:45 am]

BILLING CODE 6717-01-P